DEPARTMENT OF COMMERCE

International Trade Administration

[A-475-829]

Notice of Amended Final Determination of Sales at Less Than Fair Value: Stainless Steel Bar From Italy

AGENCY: Import Administration, International Trade Administration, Department of Commerce.

ACTION: Notice of Amended Final Determination of Sales at Less Than Fair Value.

EFFECTIVE DATES: February 22, 2002.

FOR FURTHER INFORMATION CONTACT: Jarrod Goldfeder, Import Administration, International Trade Administration, U.S. Department of Commerce, 14th Street and Constitution Avenue, NW, Washington, DC 20230; telephone: (202) 482-0189.

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“Department”) regulations are to 19 CFR part 351 (April 2000).

Scope of the Investigation

For purposes of this investigation, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this investigation is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this investigation is dispositive.

Amended Final Determination

On January 15, 2002, the Department determined that stainless steel bar from Italy is being, or is likely to be, sold in the United States at less than fair value (“LTFV”), as provided in section 735(a) of the Act. See Notice of Final Determination of Sales at Less Than Fair Value: Stainless Steel Bar from Italy, 67 FR 3155 (January 23, 2002) (“SSB Italy Final Determination”). On January 22, 2002, we received ministerial error allegations, timely filed pursuant to 19 CFR 351.224(c)(2), from Rodacciai S.p.A. (“Rodacciai”) regarding the Department's final margin calculations. Rodacciai requested that we correct the errors and publish a notice of amended final determination in the Federal Register, pursuant to 19 CFR 351.224(e). Rodacciai's submission alleges that the Department inadvertently used the “date of sale” variable rather than the “date of shipment” variable when recalculating U.S. credit expenses.

The petitioners in this proceeding did not submit any comments on Rodacciai's ministerial error allegation.

In accordance with section 735(e) of the Act, we have determined that a ministerial error in the calculation of Rodacciai's U.S. credit expenses was made in our final margin calculations. For a detailed discussion of the above-cited ministerial error allegation and the Department's analysis, see Memorandum to Richard W. Moreland, “Allegation of Ministerial Error; Final Determination in the Antidumping Duty Investigation of Stainless Steel Bar from Italy” dated February 14, 2002, which is on file in room B-099 of the main Commerce building.

Therefore, in accordance with 19 CFR 351.224(e), we are amending the final determination of the antidumping duty investigation of stainless steel bar from Italy to correct this ministerial error. The revised final weighted-average dumping margins are as follows:

Exporter/manufacturer | Original weighted-average margin percentage | Revised weighted-average margin average percentage
Acciaierie Valbruna Srl/Acciaierie Bolzano S.p.A. | 2.50 | 2.50
Acciaiera Foroni SpA | 7.07 | 7.07
Trafilerie Bedini, Srl | 1.70 | 1.70
Rodacciai S.p.A. | 5.89 | 3.83
Cogne Acciai Speciali Srl | 33.00 | 33.00
All Others | 3.81 | 3.81
* Pursuant to 19 CFR 351.204(d)(3), we have excluded rates calculated for voluntary respondents (i.e., Rodacciai and Trafilerie Bedini, Srl) from the calculation of the all-others rate under section 735(c)(5) of the Act.
** Pursuant to section 735(c)(5)(A), we have excluded from the calculation of the all-others rate margins which are zero or de minimis, or determined entirely on facts available.

Continuation of Suspension of Liquidation

In accordance with section 735(c)(1)(B) of the Act, we are directing the U.S. Customs Service (“Customs”) to continue to suspend liquidation of all imports of stainless steel bar from Italy, except for subject merchandise produced by Bedini (which has a de minimis weighted-average margin). Customs shall require a cash deposit or the posting of a bond equal to the weighted-average amount by which the normal value exceeds the export price or constructed export price, as appropriate, as indicated in the chart above. These suspension of liquidation instructions will remain in effect until further notice.

ITC Notification

In accordance with section 735(d) of the Tariff Act, we have notified the International Trade Commission of our amended final determination.

This determination is issued and published in accordance with sections 735(d) and 777(i)(1) of the Act.

Dated: February 14, 2002.
Faryar Shirzad,
Assistant Secretary for Import Administration.

[FR Doc. 02-4267 Filed 2-21-02; 8:45 am]

BILLING CODE 3510-DS-P